NATIONAL CREDIT UNION ADMINISTRATION

Sunshine Act; Meeting Notice

TIME AND DATE: 11:30 a.m., Friday, September 3, 2010.

PLACE: Board Room, 7th Floor, Room 7047, 1775 Duke Street, Alexandria, VA 22314-3428.

STATUS: Closed.

Matters To Be Considered

1. Supervisory Activities (4). Closed pursuant to some or all of the following exemptions: (8), (9)(A)(i), (ii) and (9)(B).

2. Contract negotiation. Closed pursuant to one or all of the following exemptions: (2) and (4).

3. Delegation of Authority. Closed pursuant to the following exemption: (9)(A)(i), (ii).

FOR FURTHER INFORMATION CONTACT: Mary Rupp, Secretary of the Board, Telephone: 703-518-6304.

Linda K. Dent,
Acting Board Secretary.

[FR Doc. 2010-21858 Filed 8-27-10; 4:15 pm]

BILLING CODE P